DEPARTMENT OF TRANSPORTATION

Federal Aviation Administration

14 CFR Part 39

[Docket No. FAA-2005-21331; Directorate Identifier 2005-NE-07-AD]

RIN 2120-AA64

Airworthiness Directives; Engine Components Incorporated (ECi) Reciprocating Engine Connecting Rods

AGENCY: Federal Aviation Administration (FAA), Department of Transportation (DOT).

ACTION: Notice of proposed rulemaking (NPRM).

SUMMARY: The FAA proposes to adopt a new airworthiness directive (AD) for certain Lycoming Engines (formerly Textron Lycoming) 360 and 540 series reciprocating engines with ECi connecting rods, part number (P/N) AEL 11750, installed. This proposed AD would require replacing certain serial-numbered connecting rods, P/N AEL 11750. This proposed AD would also prohibit installing certain ECi connecting rods, P/N AEL 11750 into any Lycoming 360 or 540 series reciprocating engines. This proposed AD results from reports of connecting rods with excessive variation in circularity of the journal bores. We are proposing this AD to prevent fatigue failure of the connecting rod and uncommanded shutdown of the engine.

DATES: We must receive any comments on this proposed AD by December 5, 2005.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

You may examine the comments on this proposed AD in the AD docket on the Internet at http://dms.dot.gov.

FOR FURTHER INFORMATION CONTACT: Peter Hakala, Aerospace Engineer, Special Certification Office, FAA, Rotorcraft Directorate, 2601 Meacham Blvd., Fort Worth, TX 76193; telephone (817) 222-5145; fax (817) 222-5785.

SUPPLEMENTARY INFORMATION:

Comments Invited

We invite you to send us any written relevant data, views, or arguments regarding this proposal. Send your comments to an address listed under ADDRESSES. Include “Docket No. FAA-2005-21331; Directorate Identifier 2005-NE-07-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DOT docket Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received and, any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the Docket Management Facility receives them.

Discussion

On October 16, 2003, ECi informed the FAA that an engine experienced an in-flight engine failure and uncommanded shutdown. The failure occurred after 50 hours time-in-service (TIS) after an engine overhaul. The engine overhaul included replacing the engine crankshaft, the connecting rods, and the connecting rod bearings. We conducted a post-accident investigation that included an engine teardown. The engine teardown showed that one connecting rod and one connecting rod bearing were destroyed. The three remaining connecting rod bearings had an unusual “tank tread” pattern around the surface that mates with the crankshaft journal. A visual examination of the three remaining connecting rods revealed the journal bores had the same “tank tread” pattern found on the mating surface of the bearings.

Results of the FAA's Investigation of New Connecting Rods

We approved reciprocating engine connecting rods, P/N AEL 11750, for use on Lycoming 360 and 540 series reciprocating engines under a Parts Manufacturer Approval (PMA). The Airmotive Engineering Corp, Division of Engine Components Incorporated, holds the PMA. ECi markets the parts as ECi parts. We determined the ECi engineering drawings for the connecting rods contain inadequate criteria to control circularity of the bearing bore. Because of that, the manufacturing process used to machine the bore resulted in excessive scalloping. The scalloping resulted in excessive variation in the circularity necessary for the proper functioning of the connecting rods. We also determined the inspection methods that ECi used to inspect the newly manufactured connecting rods were not sufficiently accurate to identify the manufacturing defects in circularity.

We obtained four new ECi connecting rods from the field and two new ECi connecting rods directly from ECi. A U.S. Government test facility measured the connecting rods using high-precision test measuring equipment. The test facility found the journal bores in all of the connecting rods had excessive scalloping. Our analysis of measurements from the test facility show that the scalloping prevents proper fitting between the connecting rod and it's associated rod bearing. The poor fit between these critical engine components results in a significant reduction in performance and fatigue strength. Journal bores with excessive surface scalloping or machine chattering can result in two adverse conditions:

(1) Poor contact between the journal bore and it's bearing substantially reduces heat transfer from the bearing. The resulting increase in bearing temperature substantially reduces the fatigue strength of the bearing.

(2) The scalloping or machine chattering prevents adequate development of the hydrodynamic oil film needed to lubricate and cool the bearing. This allows metal-to-metal contact between the bearing and the connecting rod journal

On December 22, 2003, ECi made a design drawing revision to better define dimensions and improve the quality control for the manufacture of the connecting rod, P/N AEL 11750. We have not received any reports of service difficulties for connecting rods, P/N AEL 11750, produced after January 2004 with the improved design.

This condition, if not corrected, could result in fatigue failure of the connecting rod and uncommanded shutdown of the engine.

FAA's Determination and Requirements of the Proposed AD

We have evaluated all pertinent information and identified an unsafe condition that is likely to exist or develop on other products of this same type design. We are proposing this AD, which would require:

• Replacing certain serial-numbered ECi connecting rods, P/N AEL 11750, with 1,500 or more hours TIS on the connecting rod, within 50 hours TIS after the effective date of the AD.

• Replacing certain serial-numbered ECi connecting rods, P/N AEL 11750, with fewer than 1,500 hours TIS on the connecting rod, before accumulating 1,500 hours TIS on the connecting rod.

This proposed AD would also prohibit installing any ECi connecting rod, P/N AEL 11750, with a serial number 54/6 or lower, into any engine after the effective date of the AD.

Costs of Compliance

We estimate that this proposed AD would affect about 2,800 Lycoming Engines 360 and 540 series reciprocating engines installed on aircraft of U.S. registry. We also estimate that it would take about 4 work hours per engine to perform the proposed actions, and that the average labor rate is $65 per work hour. Required parts would cost about $450 per connecting rod. Based on these figures, we estimate the total cost of the proposed AD to U.S. operators to be $1,988,000. ECi has indicated that they might provide operators and repair stations credit for returned connecting rods.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Engine Components Incorporated (ECi): Docket No. FAA-2005-21331; Directorate Identifier 2005-NE-07-AD.

Comments Due Date

(a) The Federal Aviation Administration (FAA) must receive comments on this airworthiness directive (AD) action by December 5, 2005.

Affected ADs

(b) None.

Applicability

(c) This AD applies to Lycoming Engines (formerly Textron Lycoming) 360 and 540 series reciprocating engines specified in Table 1 of this AD with Engine Components Incorporated (ECi) connecting rods, part number (P/N) AEL 11750 installed.

Table 1.—Engine Models
Engine Model
0-360- A1A, A1AD, A1C, A1D, A1F, A1F6, A1F6D, A1G, A1G6, A1G6D, A1H, A1H6, A1LD, A1P, A2A, A2D, A2E, A2F, A2G, A2H, A3A, A3AD, A3D, A4A, A4AD, A4D, A4G, A4J, A4K, A4M, A4N, A4P, A5AD, B1A, B1B, B2A, B2B, C1A, C1C, C1E, C1F, C1G, C2A, C2B, C2C, C2D, C2E, C4F, C4P, D1A, D2A, D2B, F1A6, G1A6, J2A;
HO-360- A1A, B1A, B1B, C1A;
IO-360- B1A, B1B, B1C, B1D, B1E, B1F, B1F6, B1G6, B2E, B2F, B2F6, B4A, E1A, F1A, L2A;
LO-360- A1G6D, A1H6;
HIO-360- A1A, A1B, B1A, B1B;
AEIO-360- B1B, B1D, B1F, B1F6, B1G6, B2F, B2F6, B4A, H1A, H1B;
O-540- A1A, A1A5, A1B5, A1C5, A1D, A1D5, A2B, A3D5, A4A5, A4B5, A4C5, A4D5, B1A5, B1B5, B1D5, B2A5, B2B5, B2C5, B4A5, B4B5, D1A5, E4A5, E4B5, E4C5, F1A5, F1B5, G1A5, G2A5, H1A5, H1A5D, H1B5D, H2A5, H2A5D, H2B5D;
AEIO-540- D4A5, D4B5, D4C5, D4D5;
IO-540- A1A5, B1A5, B1B5, B1C5, C1B5, C1C5, C2C, C4B5, C4C5, C4D5, C4D5D, D4A5, D4B5, D4C5, E1A5, E1B5, E1C5, G1A5, G1B5, G1C5, G1D5, G1E5, G1F5, J4A5, N1A5, P1A5, R1A5, T4A5D, T4B5, T4B5D, T4C5D, V4A5, V4A5D;
LTIO-540- K1AD;
TIO-540- C1A, E1A, G1A, H1A, K1AD, AA1AD, AB1AD, AB1BD, AF1A, AF1B, AG1A.

These engines are installed on, but not limited to, the aircraft listed in Table 2 of this AD.

Table 2.—Aircraft Models
Aircraft manufacturer | Aircraft model
Aero Boero | AB-180, AB-260.
Aero Commander | Lark (100), Aero Commander (500, 500-B, 500-E, 500-U).
Aero Engine Service Ltd. | Victa (R-2).
Aerofab Inc. | Renegade 250, Turbo Renegade (270).
Aviamilano | Flamingo (F-250).
Aviat | Husky.
Avions Pierre Robin | (HR100/250).
Beagle | Airedale (A-109), Husky (D5-180 01-U).
Beech Aircraft | Travel-Air (95, B-95, B-95A, B-95B), Duchess 76, Sport, Musketeer Custom III, Sundowner 180.
Bellanca Aircraft | Scout (8GCBC-CS, 8GCBC FP), Super Decathlon (8KCAB-180), Aries T-250.
Bolkow | 207, Klemm (K1-107C).
Britten-Norman | BN-2.
Brooklanda | Scoutmaster.
C.A.A.R.P. | S A.N. (M-23III), C.A.P. (10).
C. Itoh and Co. | Fuji FA-200.
Center Est Aeronautique | Regente (DR-253).
Cerva | (CE-43 Guepard).
Cessna Aircraft | Cardinal, Cardinal 172, Teal III. TSC (1A3), Skyhawk, Cutlass RG.
Christen | Husky (A-1), Christen. Pitts (S-2S), (S-2B).
DeHavilland | Drover (DHA-3MK3), Heron Conversion.
Dinfia | Ranquel (lA-51), Querandi (1A-45).
Dornier | (DO-28 , DO-28-B1, DO-8-B1).
Doyn Aircraft | Doyn-Cessna (170B, 172, 172A, 172B).
Doyn Aircraft | Doyn-Beech (Beech 95).
Doyn Aircraft | Doyn-Piper (PA-23 “160”, PA-23 “200”, PA-24 “250”, PA-23 “250”).
Earl Horton | Pawnee (Piper PA-25).
Embraer | Corioca (EMB-710), Impanema “AG.”
F.F.A. | Bravo (200).
Found Bros. | (FBA-2C), Centennial (100).
Fuji | (FA-200).
General Aviation | Model 114.
Gippsland | GA-200.
Great Lakes | Trainer.
Grob | G115/Sport-Acro.
Grumman American | Tiger.
H.A.L. | HPT-32.
Hughes Tool Co. | (269A, 269-A-1, YHO-2HU, 300).
Intermountain Mfg. Co. | Call Air (A-6, A-9, IAR821, IAR-822, IAR-826, IAR-823).
Kingsford-Smith | Bushmaster (O-6).
Lake Aircraft | Colonial (C-2, LA-4, 4A or 4P), Seawolf.
Malmo | Vipan (MF-10B, MF1-10).
Maule | Star Rocket MX-7-180, MX-7-180A, Star Rocket (MX-7-235), Super Rocket (M-6-235), Super Std. Rocket (M-7-235).
Mid-States Mfg. Co. | Twin Courier (H-500), (U-5).
Mooney Aircraft | Master “21” (M-20D, M-20E), Mark “20B”, “20D”,(M20B, M20C), Statesman (M-20G), Mark “21” (M-20E), .”TLS” M20M.
Moravan | Zlin-50L.
Mundry | CAP-10.
Nash Aircraft Ltd. | Petrel.
Neiva | lPD-590V.
Norman Aeroplace Co. | NAC-1 Freelance.
Omega Aircraft | BS-12D1.
Partenavia | Oscar (P-66).
Penn Yan | Super Cub Conversion.
Pilatus Britten-Norman | Islander (BN-2A-26), Islander (BN-2A-27, Islander II (BN-2B-26), Islander (BN-2A-21), Trislander (BN-2A-Mark III-2).
Piper Aircraft | Comanche (PA-24), Seminole (PA-44), Cherokee “C”(PA-28 “180”), Cherokee “D” (PA-28 “180”), Archer II(PA-28 “18”), Arrow (PA-28 “180R”), Seminole (PA-44), Comanche (PA-24 “150”), Aztec (PA-23 “250”),Cherokee (PA-24 “250”), Pawnee (PA-24 “235”),Cherokee (PA-28 “235”), Aztec (PA-23 “235”),Cherokee (PA-28 “235”), Comanche (PA-24 “260”),Cherokee Six (PA-32 “260”), Pawnee (PA-25 “260”),Aztec B (PA-23 “250”), Comanche (PA-24 “250”),Aztec C (PA-23 “250”), Aztec F, Comanche (PA-24),Turbo Aztec (PA-23-250).
Pitts | S-1S.
Poeschel | P-300.
Procaer | Picchio (F-15-A).
Rawdon Brow | Radon (T-1).
Regente | N-591.
Rhein-Flugzeughau | RF-V
Riley Aircraft | Rocket-Cessna (310), Turbo-Rocket, Turbo-Aztec.
Robin | Regent (DR400/180), Remorqueur (DR400/180R), R-3170, Aiglon (R-1180T).
Robinson | R-44.
Rockwell | Commander (114, 114B, 114TC).
S A.A.B. | Safir (91-D).
Schweizer Aircraft Corporation | 269A.
S.O.C.A.T.A. | Tobago (TB-10), Rallye Commodore (MS-893), Rallye 180GI, Sportana Sportsman (RS-180), Rallye 235CA,Rallye 235GT, Rallye 235C, TB-20, Trinidad TB-20,Trinidad TC TB-21.
Shrike | (500-S).
Societe Aeronautique Normande Mousquetaire | D-140, Jodel (D-140C).
Siai-Marchetti Silvercraft Std. Helicopter | (S-205, SF-260, SF-208).
Sud | Gardan (GY-180).
T. R. Smith Aircraft | Aerostar, (600).
United Consultants | See-Bee.
Utva | 75.
Valmet | PIK-23.
Varga | Kachina.
Wassmer | Super 4 (WA-50A), Sancy (WA-40), Baladou (WA-40), Pariou (WA-40), (WA-50), Europa WA-52, WA-421, WA4-2V.
Yoeman Aviation | YA-1.

Unsafe Condition

(d) This AD results from reports of connecting rods with excessive variation in circularity of the journal bores. We are issuing this AD to prevent fatigue failure of the connecting rod and uncommanded shutdown of the engine.

Compliance

(e) You are responsible for having the actions required by this AD performed within the compliance times specified unless the actions have already been done.

Engines Not Repaired or Overhauled Since New

(f) If your engine has not been overhauled or had any repair since new, no further action is required.

Engines Overhauled or Repaired Since New

(g) If your engine was overhauled or repaired since new, do the following:

(1) Before further flight inspect the maintenance records and engine logbook to determine if the overhaul or repair facility used ECi connecting rods, P/N AEL 11750.

(2) If the connecting rods are not ECi, P/N AEL 11750, no further action is required.

(3) If the connecting rods are ECi, P/N AEL 11750, and if the serial number is 54/7 or higher, no further action is required.

(4) If the connecting rods are ECi, P/N AEL 11750, and if the serial number is 54/6 or lower, do the following:

(i) If the connecting rod has 1,500 or more hours time-in-service (TIS), replace the connecting rod with a connecting rod that has a SN 54/7 or higher, or that has a P/N not specified in this AD within 50 hours TIS after the effective date of this AD.

(ii) If the connecting rod has fewer than 1,500 hours TIS, replace the connecting rod with a connecting rod that has a SN 54/7 or higher, or that has a P/N not specified in this AD before accumulating 1,500 hours TIS on the connecting rod.

(h) After the effective date of this AD, do not install any ECi connecting rod, P/N AEL 11750, that has SN 54/6 or lower into any engine.

Alternative Methods of Compliance (AMOCs)

(i) The Manager, Special Certification Office, has the authority to approve alternative methods of compliance for this AD if requested using the procedures found in 14 CFR 39.19.

Related Information

(j) None.

Issued in Burlington, Massachusetts, on September 28, 2005.
Francis A. Favara,
Acting Manager, Engine and Propeller Directorate, Aircraft Certification Service.

[FR Doc. 05-19940 Filed 10-4-05; 8:45 am]

BILLING CODE 4910-13-P